DEPARTMENT OF TRANSPORTATION

Federal Aviation Administration

14 CFR Part 39

[Docket No. 2000-NM-190-AD; Amendment 39-12401; AD 2001-17-10]

RIN 2120-AA64

Airworthiness Directives; McDonnell Douglas Model MD-11 Series Airplanes

AGENCY: Federal Aviation Administration, DOT.

ACTION: Final rule.

SUMMARY: This amendment supersedes an existing airworthiness directive (AD), applicable to certain McDonnell Douglas Model MD-11 series airplanes, that currently requires a one-time inspection to detect riding, chafing, or damage of the wire bundles adjacent to the disconnect panel bracket of the observer's station. That AD also requires repair or replacement of damaged wires with new or serviceable wires; installation of anti-chafing sleeving on the wire bundles, if necessary; and installation of a grommet along the entire upper aft edge of the disconnect panel bracket. This amendment requires an identical one-time inspection, follow-on actions, and similar corrective actions, if necessary; but the installation of anti-chafing sleeving will be required for all airplanes. The actions specified by this AD are intended to detect riding or chafing of the wire bundles adjacent to the disconnect panel bracket assembly, which could result in a fire in the wire bundles and smoke in the cockpit. This action is intended to address the identified unsafe condition.

DATES: Effective September 26, 2001.

The incorporation by reference of certain publications listed in the regulations is approved by the Director of the Federal Register as of September 26, 2001.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Los Angeles Aircraft Certification Office, 3960 Paramount Boulevard, Lakewood, California 90712; telephone (562) 627-5350; fax (562) 627-5210.

SUPPLEMENTARY INFORMATION: A proposal to amend part 39 of the Federal Aviation Regulations (14 CFR part 39) by superseding AD 97-10-12, amendment 39-10024 (62 FR 25839, May 12, 1997), which is applicable to certain McDonnell Douglas Model MD-11 series airplanes, was published in the Federal Register on February 20, 2001 (66 FR 10849). The action proposed to require a one-time inspection to detect riding, chafing, or damage of the wire bundles adjacent to the disconnect panel bracket of the observer's station; follow-on actions; corrective actions, if necessary; and installation of anti-chafing sleeving for all airplanes.

Comments

Interested persons have been afforded an opportunity to participate in the making of this amendment. Due consideration has been given to the comments received.

Address Change for Obtaining Service Information

The airplane manufacturer states that the referenced department name, number, and mail code of the address for obtaining service information are incorrect in the proposed AD. The correct address is Boeing Commercial Aircraft Group, Long Beach Division, 3855 Lakewood Boulevard, Long Beach, California 90846, Attention: Data and Service Management, Dept. C1-L5A (D800-0024). The airplane manufacturer requests that the proposed AD be revised accordingly. The FAA agrees and has revised this address in the final rule.

Clarify Referenced Paragraphs

One commenter notes that the proposed AD refers to paragraph 3.B.2. of the Accomplishment Instructions of the referenced service bulletin for accomplishing the proposed actions. The commenter points out that the referenced service bulletin has two paragraphs 3.B.2 in the Accomplishment Instructions—one for Group 1 and another for Group 2. The commenter requests that the FAA clarify these references.

The FAA agrees. Since additional work is NOT required for Group 2 airplanes, our intent was that the required actions be done per Figures 1, 2, and 3 of the referenced service bulletin, as applicable, which are the appropriate figures indicated in paragraph 3.B.2 of the Accomplishment Instruction for Group 1 airplanes. Therefore, the FAA has revised the final rule to reference Figures 1, 2, and 3, as applicable, rather than paragraph 3.B.2.

Explanation of Change to Applicability Statement

As discussed under the heading “Differences Between the Proposed AD and Service Bulletin” in the preamble of the proposed AD, the FAA has consulted with the airplane manufacturer and determined that additional work is NOT required for Group 2 airplanes. As a result of this determination, we excluded Group 2 airplanes in the applicability statement of the proposed AD (i.e., airplanes on which anti-chafing sleeving was installed on the wire bundles per paragraph (a)(1) or (a)(2) of AD 97-10-12). Our intention was to give credit to operators of those airplanes on which the requirements of this AD had been accomplished previously, and that those airplanes continue to be operated per those requirements. However, since issuance of the proposed AD, we recognize that excluding those airplanes in the applicability statement is incorrect, because they would no longer be required to operate per the requirements of this AD. Therefore, we have removed that exclusion from the applicability statement and clarified this point in a note that states, “As allowed by the phrase, ‘Required as indicated, unless accomplished previously,’ if the requirements of AD 97-10-12 have already been accomplished, this AD does not require that those actions be repeated.”

Credit for Previously Installed Grommet

One commenter requests that the FAA revise the proposed rule to specify that operators will be given “credit” for having previously accomplished the installation of a protective grommet per AD 97-10-12. The commenter suggests ways of revising the proposed AD to accommodate its request. As discussed above, the FAA has revised the final rule to address this commenter's request.

Conclusion

After careful review of the available data, including the comments noted above, the FAA has determined that air safety and the public interest require the adoption of the rule with the changes previously described. The FAA has determined that these changes will neither increase the economic burden on any operator nor increase the scope of the AD.

Cost Impact

There are approximately 195 Model MD-11 series airplanes of the affected design in the worldwide fleet. The FAA estimates that 60 airplanes of U.S. registry will be affected by this AD.

The inspection and installation that are required by this AD action will take approximately 2 work hours per airplane to accomplish, at an average labor rate of $60 per work hour. The cost of required parts will be nominal. Based on these figures, the cost impact of the inspection and installation required by this AD on U.S. operators is estimated to $7,200, or $120 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10024 (62 FR 25839, May 12, 1997), and by adding a new airworthiness directive (AD), amendment 39-12401, to read as follows:

2001-17-10 McDonnell Douglas: Amendment 39-12401. Docket 2000-NM-190-AD. Supersedes AD 97-10-12, Amendment 39-10024.

Applicability: Model MD-11 series airplanes, as listed in McDonnell Douglas Alert Service Bulletin MD11-24A111, Revision 01, dated July 27, 2000; certificated in any category.

Note 1: As allowed by the phrase, “Required as indicated, unless accomplished previously,” if the requirements of AD 97-10-12 have already been accomplished, this AD does not require that those actions be repeated.

Note 2: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

Note 3: Where there are differences between the referenced service bulletin and the AD, the AD prevails.

To detect riding or chafing of the wire bundles adjacent to the disconnect panel bracket assembly, which could result in a fire in the wire bundles and smoke in the cockpit, accomplish the following:

General Visual Inspection and Corrective Actions, If Necessary

(a) Within 6 months after the effective date of this AD, perform a general visual inspection to detect riding, chafing, or damage of the wire bundles adjacent to the disconnect panel bracket, per Figure 1 of McDonnell Douglas Alert Service Bulletin MD11-24A111, Revision 01, dated July 27, 2000.

Note 4: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(1) If any riding or chafing is found, and if any damage is found: Before further flight, repair damaged wires; install anti-chafing sleeving on the wire bundles; and install a protective grommet along the entire upper aft edge of the disconnect panel bracket; per Figures 2 and 3 of the service bulletin, respectively.

(2) If any riding or chafing is found, but no damage is found: Before further flight, install anti-chafing sleeving on the wire bundles, and install a protective grommet along the entire upper aft edge of the disconnect panel bracket, per Figures 2 and 3 of the service bulletin, respectively.

(3) If no riding, chafing, or damage is found: Before further flight, install anti-chafing sleeving on the wire bundles, and install a protective grommet along the entire upper aft edge of the disconnect panel bracket, per Figures 2 and 3 of the service bulletin, respectively.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 5: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with McDonnell Douglas Alert Service Bulletin MD11-24A111, Revision 01, dated July 27, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(e) This amendment becomes effective on September 26, 2001.

Issued in Renton, Washington, on August 14, 2001.
Vi L. Lipski,
Manager, Transport Airplane Directorate, Aircraft Certification Service.

[FR Doc. 01-20937 Filed 8-21-01; 8:45 am]

BILLING CODE 4910-13-U